DEPARTMENT OF TRANSPORTATION

Federal Aviation Administration

Notice of Intent To Rule on Application 04-16-C-00-CHO To Impose and Use the Revenue From a Passenger Facility Charge (PFC) at Charlottesville-Albemarle Airport, Charlottesville, VA

AGENCY: Federal Aviation Administration (FAA), DOT.

ACTION: Notice of intent to rule on application.

SUMMARY: The FAA proposes to rule and invites public comment on the application to impose and use the revenue from a PFC at Charlottesville-Albemarle Airport (CHO) under the provisions of the 49 U.S.C. 40117 and part 158 of the Federal Aviation Regulations (14 CFR part 158).

DATES: Comments must be received on or before November 18, 2004.

ADDRESSES: Comments on this application may be mailed or delivered in triplicate to the FAA at the following address: Washington Airports District Office, 23723 Air Freight Lane, Suite 210, Dulles, Virginia 20166.

In addition, one copy of any comments submitted to the FAA must be mailed or delivered to Mr. Bryan O. Elliott, Executive Director, Charlottesville-Albemarle Airport of the Charlottesville-Albemarle Airport Authority at the following address: Charlottesville-Albemarle Airport Authority, Charlottesville-Albemarle Airport, 201 Bowen Loop Road, Suite 200, Charlottesville, Virginia 24012-1148.

Air carriers and foreign air carriers may submit copies of written comments previously provided to the public agency full name under § 158.23 of part 158.

FOR FURTHER INFORMATION CONTACT: Mr. Terry J. Page, Manager, Washington Airports District Office, 23723 Air Freight Lane, Suite 210, Dulles, Virginia 20166, Telephone: (703) 661-1354.

The application may be reviewed in person at this same location.

SUPPLEMENTARY INFORMATION: The FAA proposes to rule and invites public comment on the application to impose and use the revenue from a PFC at Charlottesville-Albemarle Airport under the provisions of the 49 U.S.C. 40117 and part 158 of the Federal Aviation Regulations (14 CFR part 158).

On October 12, 2004, the FAA determined that the application to impose and use the revenue from a PFC submitted by Charlottesville-Albemarle Airport Authority was substantially complete within the requirements of § 158.25 of part 158. The FAA will approve or disapprove the application, in whole or in part, no later than December 22, 2004.

The following is a brief overview of the application.

Proposed charge effective date: August 1, 2007.

Proposed charge expiration date: August 1, 2015.

Level of the proposed PFC: $4.50.

Total estimated PFC revenue: $5,499,286.

Brief description of proposed projects(s): Air Carrier Debt Service; Rehabilitate and Expand General Aviation parking Apron; Rehabilitate Air Carrier Apron; Project Administration Fees.

Level of the proposed PFC: $4.50.

Class or classes of air carriers which the public agency has requested not be required to collect PFCs: Air Tax/Commercial Operators (ATCO) required to file FAA form 1800-31.

Any person may inspect the application in person at the FAA office listed above under FOR FURTHER INFORMATION CONTACT and at the FAA regional Airports office located at: Federal Aviation Administration, Eastern Region, 1 Aviation Plaza, Jamaica, New York 11434-4809.

In addition, any person may, upon request, inspect the application, notice and other documents germane to the application in person at the Charlottesville-Albemarle Airport Authority.

Issued in Dulles, Virginia on October 12, 2004.
Terry J. Page,
Manager, Washington Airports District Office, Eastern Region.

[FR Doc. 04-23385 Filed 10-18-04; 8:45 am]

BILLING CODE 4910-13-M